DEPARTMENT OF COMMERCE

National Institute of Standards and Technology

[Docket No.: 080626784-8786-01]

RIN 0693-ZA82

Technology Innovation Program (TIP) Notice of Availability of Funds and Announcement of Public Meetings (Proposers' Conferences)

AGENCY: National Institute of Standards and Technology (NIST), Department of Commerce.

ACTION: Notice.

SUMMARY: The National Institute of Standards and Technology's (NIST) Technology Innovation Program (TIP) announces that it will hold a single fiscal year 2008 competition and is soliciting high-risk, high-reward research and development proposals for financial assistance. TIP also announces that it will hold public meetings (Proposers' Conferences) for all interested parties. TIP is soliciting proposals under this fiscal year 2008 competition in one area of critical national need entitled “Civil Infrastructure” as described in the Program Description section below.

DATES: The due date for submission of proposals is 3 p.m. Eastern Time, Thursday, September 4, 2008. This deadline applies to any mode of proposal submission, including hand-delivery, courier, express mailing, and electronic. Do not wait until the last minute to submit a proposal. TIP will not make any allowances for late submissions, including incomplete Grants.gov registration or delays by guaranteed overnight couriers. To avoid any potential processing backlogs due to last minute registrations, proposers are strongly encouraged to start their Grants.gov registration process at least four weeks prior to the proposal submission due date. Review, selection, and award processing is expected to be completed by the end of November 2008.

ADDRESSES: Proposals must be submitted to TIP as follows:

Paper submission: Send to National Institute of Standards and Technology, Technology Innovation Program, 100 Bureau Drive, Stop 4701, Gaithersburg, MD 20899-4701.

Electronic submission: http://www.grants.gov.

FOR FURTHER INFORMATION CONTACT: Barbara Lambis at 301-975-4447 or by e-mail at barbara.lambis@nist.gov.

SUPPLEMENTARY INFORMATION: Additional Information. The full Federal Funding Opportunity (FFO) announcement for this request for proposals is available at http://www.grants.gov. The full FFO announcement text can also be accessed on the TIP Web site at http://www.nist.gov/tip/helpful.html. The June 2008 Technology Innovation Program Proposal Preparation Kit is also available at http://www.nist.gov/tip/helpful.html. The TIP Proposal Preparation Kit must be used to prepare a TIP proposal. The TIP implementing regulations are published at 15 CFR Part 296, 73 FR 35,913 (June 25, 2008), and included in the TIP Proposal Preparation Kit as Appendix B.

Public Meetings (Proposers' Conferences). TIP is holding public meetings (Proposers' Conferences) at several locations around the country. Proposers' conferences will provide general information regarding TIP, guidance on preparing proposals, and the opportunity for questions and answers. Proprietary technical discussions about specific project ideas with NIST staff are not permitted at these conferences or at any time before submitting the proposal to TIP. Therefore, you should not expect to have proprietary issues addressed at proposers' conferences. Also, NIST/TIP staff will not critique or provide feedback on project ideas while they are being developed by a proposer. However, NIST/TIP staff will answer questions about the TIP eligibility and cost-sharing requirements, evaluation and award criteria, selection process, and the general characteristics of a competitive TIP proposal at the proposers' conferences and by phone and e-mail. Attendance at TIP proposers' conferences is not required.

TIP Proposers' Conferences are being held at the following dates, times, and locations:

July 16, 2008, 9 a.m.-1 p.m. Central Time: St. Louis Airport Marriott, 10700 Pear Tree Lane, St. Louis, MO (314-253-5121).

July 16, 2008, 9 a.m.-1 p.m. Central Time: Renaissance Houston, 6 Greenway Plaza, East Houston, TX (713-850-2310).

July 17, 2008, 9 a.m.-1 p.m. Eastern Time: Holiday Inn Atlanta Airport North, 1380 Virginia Avenue, Atlanta, GA (404-838-0029).

July 17, 2008, 9 a.m.-1 p.m. Pacific Time: Holiday Inn Portland Airport, 8439 North East Columbia Boulevard, Portland, OR (503-914-5253).

July 18, 2008, 9 a.m.-1 p.m. Pacific Time: Doubletree San Jose, 2050 Gateway Place, San Jose, CA (408-437-2124).

July 21, 2008, 1 p.m.-5 p.m. Eastern Time: Boston Courtyard Downtown, 275 Tremont Street, Boston, MA (781-537-5594).

July 22, 2008, 9 a.m.-1 p.m. Eastern Time: NIST Red Auditorium, 100 Bureau Drive, Gaithersburg, MD (301-975-8910). Pre-registration is required by 5 p.m. Eastern Time on July 16, 2008 for the Proposers' Conference being held at NIST Gaithersburg, MD only. Due to increased security at NIST, no on-site registrations will be accepted and all attendees must be pre-registered. Photo identification must be presented at the NIST main gate to be admitted to the July 17, 2008 conference. Attendees must wear their conference badge at all times while on the NIST campus. Same day registration will be allowed at the other locations. Electronic Registration: At http://www.nist.gov/public_affairs/confpage/080722.htm.

No registration fee will be charged for any of the Proposers' Conferences. Presentation materials from Proposers' Conferences will be made available on the TIP Web site.

Statutory Authority. Section 3012 of the America Creating Opportunities to Meaningfully Promote Excellence in Technology, Education, and Science (COMPETES) Act, Pub. L. 110-69 (August 9, 2007), 15 U.S.C.A. 278n (2008).

CFDA. 11.613, Technology Innovation Program

Program Description. TIP is soliciting proposals under this fiscal year 2008 competition in one area of critical nation need entitled “Civil Infrastructure” as described below. The objective of this area of critical national need is to address two elements of a Civil Infrastructure Structural Integrity societal challenge. The two elements are inspection and monitoring of the United States' Civil Infrastructure Structural Integrity as outlined in the white paper “Advanced Sensing Technologies for the Infrastructure: Roads, Highways, Bridges and Water Systems” (http://www.nist.gov/tip/helpful.html).

The solutions to this societal challenge require advancement beyond the state-of-the-art of sensing technologies that will assess the structural integrity and/or deterioration processes of bridges, roads, water mains, and wastewater collection systems, that are more accurate, easier to use, and more economically feasible. The need for advanced sensing technologies is of national importance because nearly all municipalities and states in the nation face infrastructure management challenges. The need for TIP's investment is justified because portions of infrastructure are reaching the end of their life spans and there are few cost effective technical means to monitor infrastructure integrity and to prioritize the renovation and replacement of infrastructure elements. Transformational research beyond incremental advancements is required to achieve the objectives for this area of critical national need. Incremental improvements of current technologies will not meet the challenges of providing cost-effective, widely deployable solutions to the problems of sensing structural integrities and/or deterioration processes widely across infrastructure systems.

Proposals are being sought to create and validate new advanced, robust, network capable, nondestructive evaluation and test sensing systems, or system components, to cost effectively and quantitatively inspect and evaluate the structural integrity of the civil infrastructure.

The targeted system should be capable of, but not limited to, detection of corrosion, cracking, and delamination or failure of critical infrastructure elements and the materials of which they are made.

Solutions are needed for improved inspection systems for roads, highways, bridges, drinking and wastewater systems that provide real-time understanding of the integrity and service life through the use of portable, mobile or remote sensing capabilities.

Innovations are being sought in all aspects of a system to provide an advanced, cost effective, networked system, either fixed or mobile, that is easily deployable, self powered, and self monitoring. A complete system could include all system components, hardware, and software.

Proposals that include validation by potential end users will be considered as having strong potential.

Also within scope are:

a. Systems that provide new and advanced methodologies for the detection of fluid leaks from water piping systems; and

b. Single components of a system solution that include a demonstration of the component in a system setting.

Ineligible projects under this competition are:

a. Advancements in a system component without a prototype demonstrating that the component is functional within a system solution, as part of the proposed technical plan;

b. Integration projects using only existing state-of-the-art components;

c. Straightforward improvements to existing components without the potential for a transformational increase in performance to the technical requirements; and

d. Software development that is predominantly straightforward, routine data gathering using applications of standard software development practices.

In addition to the competition-specific ineligible projects, the following are ineligible projects:

a. Straightforward improvements of existing products or product development.

b. Projects that are Phase II, III, or IV clinical trials. TIP will rarely fund Phase I clinical trials and reserves the right not to fund a Phase I clinical trial. The portion of a Phase I trial that may be funded must be critical to meeting Evaluation Criterion (a)(1) addressing the scientific and technical merit of the proposal. The trial results must be essential for completion of a critical R&D task of the project. The definitions of all phases of clinical trials are provided in the TIP Guidelines and Documentation Requirements for Research Involving Human & Animal Subjects located at http://www.nist.gov/tip/helpful.html.

c. Pre-commercial-scale demonstration projects where the emphasis is on demonstrating that some technology works on a large scale or is economically sound rather than on R&D that advances the state of the art and is high-risk, high-reward.

d. Projects that TIP determines would likely be completed without TIP funds in the same time frame or nearly the same time frame, or with the same scale or scope.

e. Predominantly straightforward, routine data gathering (e.g., creation of voluntary consensus standards, data gathering/handbook preparation, testing of materials, or unbounded research aimed at basic discovery science) or application of standard engineering practices.

f. Projects in which the predominant risk is market oriented—that is, the risk that the end product may not be embraced by the marketplace.

g. Projects with software work, that are predominantly about final product details and product development, and that have significant testing involving users outside the research team to determine if the software meets the original research objectives, are likely to be either uncompetitive or possibly ineligible for funding. However, R&D projects with limited software testing, involving users outside of the research team, may be eligible for funding and contain eligible costs within a TIP award when the testing is critical to meeting Evaluation Criteria and/or Award Criteria and the testing results are essential for completion of a critical task in the proposed research. This type of testing in projects may also be considered to involve human subjects in research.

Funding Availability. Fiscal year 2008 appropriations include funds in the amount of approximately $9 million for new TIP awards. Approximately 9 awards are anticipated. The anticipated start date is January 1, 2009. The period of performance depends on the R&D activity proposed. A single company can receive up to a total of $3 million with a project period of performance of up to 3 years. A joint venture can receive up to a total of $9 million with a project period of performance of up to 5 years. Continuation funding is based on satisfactory performance, availability of funds, continued relevance to program objectives, and is at the sole discretion of NIST.

Eligibility Criteria. Single companies and joint ventures may apply for TIP funding as provided in 15 CFR 296.2, 296.4, and 296.5.

Cost Sharing Requirements. At least 50 percent of the yearly total project costs (direct plus all of the indirect costs).

Evaluation and Award Criteria. Proposals are selected for funding based on the evaluation criteria listed in 15 CFR 296.21 and the award criteria listed in 15 CFR 296.22 as identified below. Additionally, no proposal will be funded unless TIP determines that it has scientific and technical merit and that the proposed research has strong potential for addressing a societal challenge within the TIP-identified area of critical national need as described in this notice. Detailed guidance on how to address the evaluation and award criteria is provided in Chapter 2 of the TIP Proposal Preparation Kit, which is available at http://www.nist.gov/tip/helpful.html.

Evaluation Criteria. The two components of the evaluation criteria and respective weights as listed in 15 CFR 296.21 are as follows:

(a)(1) The proposer(s) adequately addresses the scientific and technical merit and how the research may result in intellectual property vesting in a United States entity including evidence that:

(i) The proposed research is novel;

(ii) The proposed research is high-risk, high-reward;

(iii) The proposer(s) demonstrates a high level of relevant scientific/technical expertise for key personnel, including contractors and/or informal collaborators, and has access to the necessary resources, for example research facilities, equipment, materials, and data, to conduct the research as proposed;

(iv) The research result(s) has the potential to address the technical needs associated with a major societal challenge not currently being addressed; and

(v) The proposed research plan is scientifically sound with tasks, milestones, timeline, decision points and alternate strategies.

(2) Total weight of (a)(1)(i) through (v) is 50%.

(b)(1) The proposer(s) adequately establishes that the proposed research has strong potential for advancing the state-of-the-art and contributing significantly to the United States science and technology knowledge base and to address areas of critical national need through transforming the Nation's capacity to deal with a major societal challenge(s) that is not currently being addressed, and generate substantial benefits to the Nation that extend significantly beyond the direct return to the proposer including an explanation in the proposal:

(i) Of the potential magnitude of transformational results upon the Nation's capabilities in an area;

(ii) Of how and when the ensuing transformational results will be useful to the Nation; and

(iii) Of the capacity and commitment of each award participant to enable or advance the transformation to the proposed research results (technology).

(2) Total weight of (b)(1)(i) through (iii) is 50%.

Award Criteria. The six components of the award criteria as listed in 15 CFR § 296.22 are as follows:

(a) The proposal explains why TIP support is necessary, including evidence that the research will not be conducted within a reasonable time period in the absence of financial assistance from TIP;

(b) The proposal demonstrates that reasonable and thorough efforts have been made to secure funding from alternative funding sources and no other alternative funding sources are reasonably available to support the proposal;

(c) The proposal explains the novelty of the research (technology) and demonstrates that other entities have not already developed, commercialized, marketed, distributed, or sold similar research results (technologies);

(d) The proposal has scientific and technical merit and may result in intellectual property vesting in a United States entity that can commercialize the technology in a timely manner; and

(e) The proposal establishes that the research has strong potential for advancing the state-of-the-art and contributing significantly to the United States science and technology knowledge base; and

(f) The proposal establishes that the proposed transformational research (technology) has strong potential to address areas of critical national need through transforming the Nation's capacity to deal with major societal challenges that are not currently being addressed, and generate substantial benefits to the Nation that extend significantly beyond the direct return to the proposer.

NIST must determine that a proposal successfully meets all six award criteria for the proposal to receive funding under the Program.

Selection Factors. In making final selections, the Selecting Official will select funding recipients based upon the Evaluation Panel's rank order of the proposals and the following selection factors:

a. Assuring an appropriate distribution of funds among technologies and their applications,

b. Availability of funds, and/or

c. Program priorities.

Program Priorities. TIP is soliciting proposals under this fiscal year 2008 competition in one area of critical nation need entitled “Civil Infrastructure” as described in the Program Description section above.

Selection Procedures. Proposals are selected based on a multi-disciplinary peer-review process, as described in 15 CFR 296.20. A preliminary review is conducted to determine if the proposal is in accordance with 15 CFR 296.3, complies with the eligibility requirements described in 15 CFR 296.5, addresses award criteria (a) through (c) of 15 CFR 296.22, and is complete. Proposals that are incomplete or do not meet any one of the preliminary review requirements will normally be eliminated. All remaining proposals are then carefully reviewed based on the TIP evaluation criteria listed in 15 CFR 296.21 and award criteria listed in 15 CFR 296.22. An Evaluation Panel will present funding recommendations to a Selecting Official in rank order for further consideration. The Selecting Official makes the final selections for funding. The selection of proposals by the Selecting Official is final and cannot be appealed. The final approval of selected proposals and award of assistance will be made by the NIST Grants Officer. The award decision of the NIST Grants Officer is final and cannot be appealed.

NIST reserves the right to negotiate the cost and scope of the proposed work with the proposers that have been selected to receive awards. This may include requesting that the proposer delete from the scope of work a particular task that is deemed by NIST to be inappropriate for support. NIST also reserves the right to reject a proposal where information exists that raises a reasonable doubt as to the responsibility of the proposer.

Unallowable/Ineligible Costs. The following items, regardless of whether they are allowable under the federal cost principles, are ineligible/unallowable under TIP:

a. Bid and proposal costs unless they are incorporated into a federally approved indirect cost rate (e.g., payments to any organization or person retained to help prepare a proposal).

b. Construction costs for new buildings or extensive renovations of existing laboratory buildings. However, costs for the construction of experimental research and development facilities to be located within a new or existing building are allowable provided the equipment or facilities are essential for carrying out the proposed project and are approved by the NIST Grants Officer. These types of facility costs may need to be prorated if they will not be used exclusively for the research activities proposed.

c. Contractor office supplies and contractor expenses for conferences/workshops.

d. Contracts to another part of the same company or to another company with identical or nearly identical ownership. Work proposed by another part of the same company or by another company with identical or nearly identical ownership should be shown as funded through inter-organizational transfers that do not contain profit. Inter-organizational transfers should be broken down in the appropriate budget categories.

e. For research involving human and/or animal subjects, any costs used to secure Institutional Review Board or Institutional Animal Care and Use Committee approvals before or during the award.

f. General purpose office equipment and supplies that are not used exclusively for the research, e.g., office computers, printers, copiers, paper, pens, and toner cartridges.

g. Indirect costs, which must be absorbed by the recipient. However, indirect costs are allowable for contractors under a single company or joint venture. (Note that indirect costs absorbed by the recipient may be used to meet the cost-sharing requirement.)

h. Marketing, sales, or commercialization costs, including marketing surveys, commercialization studies, and general business planning, unless they are included in a federally approved indirect cost rate.

i. Office furniture costs, unless they are included in a federally approved indirect cost rate.

j. Patent costs and legal fees, unless they are included in a federally approved indirect cost rate.

k. Preaward costs.

l. Profit, management fees, interest on borrowed funds, or facilities capital cost of money. However, profit is allowable for contractors under a single company or joint venture.

m. Relocation costs, unless they are included in a federally approved indirect cost rate.

n. Tuition costs. However, an institution of higher education participating in a TIP project as a contractor or as a joint venture member or lead may charge TIP for tuition remission or other forms of compensation in lieu of wages paid to students working on TIP projects, but only as provided in OMB Circular A-21, Section J.41. In such cases, tuition remission would be considered a cash contribution rather than an in-kind contribution.

Intellectual Property Requirements. For single company award recipients, pursuant to the Bayh-Dole Act (35 U.S.C. 202 (a) and (b)) and “Memorandum to the Heads of Executive Departments and Agencies: Government Patent Policy” (February 18, 1983), the entity that invents owns the invention. However, pursuant to 35 U.S.C. 202(a)(i), when a single company or its contractor under a TIP award is not located in the United States or does not have a place of business located in the United States or is subject to the control of a foreign government, NIST will require that title to inventions made by such parties be transferred to a United States entity that will ensure the commercialization of the technology in a timely fashion.

For joint ventures, ownership of inventions arising from a TIP-funded project may vest in any participant in a joint venture, as agreed by the members of the joint venture (notwithstanding 35 U.S.C. 202 (a) and (b)). (Participant includes any entity that is identified as a recipient, subrecipient, or contractor on an award to a joint venture.)

Title to any such invention shall not be transferred or passed, except to a participant in the joint venture, until the expiration of the first patent obtained in connection with such invention. Should the last existing participant in a joint venture cease to exist prior to the expiration of the first patent obtained in connection with any invention developed from assistance provided under TIP, title to such patent must be transferred or passed to a U.S. entity that can commercialize the technology in a timely fashion.

The United States reserves a nonexclusive, nontransferable, irrevocable paid-up license, to practice or have practiced for or on behalf of the United States any inventions developed from a TIP award. The federal government shall not in the exercise of such license publicly disclose proprietary information related to the license. This does not prohibit the licensing to any company of intellectual property rights arising from a TIP-funded project. (15 CFR 296.11(b)(3)). The federal government also has march-in rights in accordance with 37 CFR 401.6.

Projects Involving Human Subjects. Research involving human subjects must be in compliance with applicable Federal regulations and NIST policies for the protection of human subjects. Human subjects research activities involve interactions with live human subjects or the use of data, images, tissue, and/or cells/cell lines (including those used for control purposes) from human subjects. Research involving human subjects may include activities such as the use of image and/or audio recording of people, taking surveys or using survey data, using databases containing personal information, testing software with volunteers, and many tasks beyond those within traditional biomedical research. A Human Subjects Determination Checklist is included in the June 2008 TIP Proposal Preparation Kit in Chapter 4 (http://www.nist.gov/tip/helpful.html) to assist you in determining whether your proposed research plan has human subjects involvement, which would require additional information in your proposal submission, and possibly more documentation during the Evaluation Panel's consideration of your proposal. See the TIP Guidelines and Documentation Requirements for Research Involving Human & Animal Subjects for more specific information on documentation requirements and due dates for documentation located at http://www.nist.gov/tip/helpful.html or by calling 1-888-847-6478.

Projects Involving Live Vertebrate Animals. Research involving live vertebrate animals must be in compliance with applicable federal regulations and NIST policies for the protection of live vertebrate animals. Vertebrate animal research involves live animals that are being cared for, euthanized, or used by the project participants to accomplish research goals or for teaching or testing. The regulations do not apply to animal tissues purchased from commercial processors or tissue banks or to uses of preexisting images of animals (e.g., a wildlife documentary or pictures of animals in newscasts). The regulations do apply to any animals that are transported, cared for, euthanized or used by a project participant for testing, research, or training such as testing of new procedures or projects, collection of biological samples or observation data on health and behavior. Detailed information regarding the use of live vertebrate animals in research plans and required documentation is available in the TIP Guidelines and Documentation Requirements for Research Involving Human & Animal Subjects located at http://www.nist.gov/tip/helpful.html or by calling 1-888-847-6478.

Executive Order 12372 (Intergovernmental Review of Federal Programs). Proposals under this program are not subject to Executive Order 12372.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

E.O. 13132 (Federalism). This notice does not contain policies with Federalism implications as defined in Executive Order 13132.

E.O. 12866 (Regulatory Planning and Review). This notice is not a significant regulatory action under Sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Paperwork Reduction Act. Notwithstanding any other provision of the law, no person is required to, nor shall any person be subject to penalty for failure to, comply with a collection of information, subject to the requirements of the Paperwork Reduction Act (PRA), unless that collection of information displays a currently valid Office of Management and Budget (OMB) Control Number. This notice contains collection-of-information requirements subject to the PRA. The use of Form NIST-1022, Standard Form-424 (R&R), SF-424B, SF-LLL, Research and Related Other Project Information Form, and CD-346 has been approved by OMB under the respective control numbers 0693-0050, 4040-0001, 4040-0007, 0348-0046, 4040-0001, and 0605-0001.

Administrative and National Policy Requirements. Department of Commerce Pre-Award Notification Requirements for Grants and Cooperative Agreements, 73 FR 7696-05 (Feb. 11, 2008), apply to this solicitation.

Dated: July 9, 2008.
James M. Turner,
Deputy Director.

[FR Doc. E8-16068 Filed 7-14-08; 8:45 am]

BILLING CODE 3510-13-P